DEPARTMENT OF TRANSPORTATION

Federal Aviation Administration

14 CFR Part 39

[Docket No. FAA-2007-28882; Directorate Identifier 2007-NM-035-AD; Amendment 39-15247; AD 2007-23-01]

RIN 2120-AA64

Airworthiness Directives; Goodrich Evacuation Systems Approved Under Technical Standard Order (TSO) TSO-C69b and Installed on Airbus Model A330-200 and -300 Series Airplanes, Model A340-200 and -300 Series Airplanes, and Model A340-541 and -642 Airplanes

AGENCY: Federal Aviation Administration (FAA), Department of Transportation (DOT).

ACTION: Final rule.

SUMMARY: The FAA is superseding an existing airworthiness directive (AD), which applies to Goodrich evacuation systems approved under TSO-C69b and installed on certain Airbus Model A330-200 and -300 series airplanes, Model A340-200 and -300 series airplanes, and Model A340-541 and -642 airplanes. That AD currently requires inspecting to determine the part number of the pressure relief valves on the affected Goodrich evacuation systems, and corrective action if necessary. For certain airplanes, this new AD requires an additional inspection to determine the part number of the pressure relief valves, and corrective action if necessary. This AD results from a report indicating that, during maintenance testing, the pressure relief valves on the affected Goodrich evacuation systems did not seal when activated, which caused the pressure in the escape slide/raft to drop below the minimum allowable raft mode pressure. We are issuing this AD to prevent loss of pressure in the escape slides/rafts after an emergency evacuation, which could result in inadequate buoyancy to support the raft's passenger capacity during ditching, and increase the chance for injury to raft passengers.

DATES: This AD becomes effective December 11, 2007.

The Director of the Federal Register approved the incorporation by reference of a certain publication listed in the AD as of December 11, 2007.

On July 17, 2006 (71 FR 33606, June 12, 2006), the Director of the Federal Register approved the incorporation by reference of Goodrich Service Bulletin 25-355, dated July 25, 2005.

ADDRESSES: For service information identified in this AD, contact Goodrich, Aircraft Interior Products, ATTN: Technical Publications, 3414 South Fifth Street, Phoenix, AZ 85040.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tracy Ton, Aerospace Engineer, Cabin Safety/Mechanical and Environmental Systems Branch, ANM-150L, FAA, Los Angeles Aircraft Certification Office, 3960 Paramount Boulevard, Lakewood, California 90712-4137; telephone (562) 627-5352; fax (562) 627-5210.

SUPPLEMENTARY INFORMATION:

Discussion

The FAA issued a notice of proposed rulemaking (NPRM) to amend 14 CFR part 39 to include an AD that supersedes AD 2006-12-08, amendment 39-14633 (71 FR 33606, June 12, 2006). The existing AD applies to Goodrich evacuation systems approved under Technical Standard Order (TSO) TSO-C69b and installed on certain Airbus Model A330-200 and -300 series airplanes, Model A340-200 and -300 series airplanes, and Model A340-541 and -642 airplanes. That NPRM was published in the Federal Register on August 6, 2007 (72 FR 43576). That NPRM proposed to continue to require inspecting to determine the part number of the pressure relief valves on the affected Goodrich evacuation systems, and corrective action if necessary. For certain airplanes, that NPRM also proposed to require an additional inspection to determine the part number of the pressure relief valves, and corrective action if necessary.

Comments

We provided the public the opportunity to participate in the development of this AD. No comments have been received on the NPRM or on the determination of the cost to the public.

Conclusion

We have carefully reviewed the available data and determined that air safety and the public interest require adopting the AD as proposed.

Costs of Compliance

There are about 689 airplanes of the affected design in the worldwide fleet. This AD affects about 27 airplanes of U.S. registry.

The actions that are required by AD 2006-12-08 and retained in this AD take about 1 work hour per airplane, at an average labor rate of $80 per work hour. Based on these figures, the estimated cost of the currently required actions is $2,160, or $80 per airplane.

All airplanes affected by the new required action are currently operated by non-U.S. operators under foreign registry. If an affected airplane is imported and placed on the U.S. Register in the future, the new actions will take about 1 work hour per airplane, at an average labor rate of $80 per work hour. Based on these figures, the estimated cost of the new actions specified in this AD for U.S. operators is $80 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14633 (71 FR 33606, June 12, 2006) and by adding the following new airworthiness directive (AD):

2007-23-01 Goodrich (Formerly BF Goodrich): Amendment 39-15247. Docket No. FAA-2007-28882; Directorate Identifier 2007-NM-035-AD.

Effective Date

(a) This AD becomes effective December 11, 2007.

Affected ADs

(b) This AD supersedes AD 2006-12-08.

Applicability

(c) This AD applies to Goodrich evacuation systems approved under Technical Standard Order (TSO) TSO-C69b, as installed on Airbus Model A330-201, -202, -203, -223, -243, -301, -321, -322, -323, -341, -342, and -343 airplanes; Model A340-211, -212, -213, -311, -312, and -313 airplanes; and Model A340-541 and -642 airplanes; certificated in any category.

Unsafe Condition

(d) This AD results from a report indicating that, during maintenance testing, the pressure relief valves on the affected Goodrich evacuation systems did not seal when activated, which caused the pressure in the escape slide/raft to drop below the minimum allowable raft mode pressure. We are issuing this AD to prevent loss of pressure in the escape slides/rafts after an emergency evacuation, which could result in inadequate buoyancy to support the raft's passenger capacity during ditching, and increase the chance for injury to raft passengers.

Compliance

(e) You are responsible for having the actions required by this AD performed within the compliance times specified, unless the actions have already been done.

Restatement of Requirements of AD 2006-12-08

Inspection for Certain Part Number (P/N)

(f) For all airplanes: Within 36 months after July 17, 2006 (the effective date of AD 2006-12-08): Perform an inspection to determine the part number of the pressure relief valve on the Goodrich evacuation systems in accordance with the Accomplishment Instructions of Goodrich Service Bulletin 25-355, dated July 25, 2005; or Goodrich Service Bulletin 25-355, Revision 1, dated July 24, 2006. After the effective date of this AD, only Goodrich Service Bulletin 25-355, Revision 1, dated July 24, 2006, may be used.

(1) If any pressure relief valve having P/N 4A3791-3 is installed, before further flight, replace the valve with a new or serviceable valve having P/N 4A3641-1 and mark the girt adjacent to the placard, in accordance with the Accomplishment Instructions of the service bulletin.

(2) If any pressure release valve having P/N 4A3641-1 is installed, before further flight, mark the girt adjacent to the placard in accordance with the Accomplishment Instructions of the service bulletin.

Part Installation for Airplanes Identified in Original Issue of the Service Bulletin

(g) As of July 17, 2006, no person may install a pressure relief valve having P/N 4A3791-3, on any airplane equipped with Goodrich evacuation systems identified in Goodrich Service Bulletin 25-355, dated July 25, 2005.

New Requirements of This AD

Inspection for Certain Other P/N

(h) For Model A340-541 airplanes: Within 36 months after the effective date of this AD, perform an inspection to determine the part number of the pressure relief valve on the Goodrich evacuation systems in accordance with the Accomplishment Instructions of Goodrich Service Bulletin 25-355, Revision 1, dated July 24, 2006.

(1) If any pressure relief valve having P/N 4A3791-6 is installed, before further flight, replace the valve with a new or serviceable valve having P/N 4A3641-26 and mark the girt adjacent to the placard, in accordance with the Accomplishment Instructions of the service bulletin.

(2) If any pressure release valve having P/N 4A3641-26 is installed, before further flight, mark the girt adjacent to the placard in accordance with the Accomplishment Instructions of the service bulletin.

Parts Installation for All Airplanes

(i) As of the effective date of this AD, no person may install a pressure relief valve having P/N 4A3791-3, on any airplane equipped with Goodrich evacuation systems identified in Goodrich Service Bulletin 25-355, Revision 1, dated July 24, 2006.

(j) As of the effective date of this AD, no person may install a pressure relief valve having P/N 4A3791-6, on any airplane equipped with Goodrich evacuation systems identified in Goodrich Service Bulletin 25-355, Revision 1, dated July 24, 2006.

Alternative Methods of Compliance (AMOCs)

(k)(1) The Manager, Los Angeles Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2006-12-08 are approved as AMOCs for the corresponding provisions of this AD.

Material Incorporated by Reference

(l) You must use Goodrich Service Bulletin 25-355, dated July 25, 2005; or Goodrich Service Bulletin 25-355, Revision 1, dated July 24, 2006; as applicable, to perform the actions that are required by this AD, unless the AD specifies otherwise.

(1) The Director of the Federal Register approved the incorporation by reference of Goodrich Service Bulletin 25-355, Revision 1, dated July 24, 2006, in accordance with 5 U.S.C. 552(a) and 1 CFR part 51.

(2) On July 17, 2006 (71 FR 33606, June 12, 2006), the Director of the Federal Register approved the incorporation by reference of Goodrich Service Bulletin 25-355, dated July 25, 2005.

(3) Contact Goodrich, Aircraft Interior Products, ATTN: Technical Publications, 3414 South Fifth Street, Phoenix, AZ 85040, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on October 27, 2007.
Stephen P. Boyd,
Assistant Manager, Transport Airplane Directorate, Aircraft Certification Service.

[FR Doc. E7-21685 Filed 11-5-07; 8:45 am]

BILLING CODE 4910-13-P